DEPARTMENT OF HEALTH AND HUMAN SERVICES

National Institutes of Health

National Institute of Dental & Craniofacial Research; Amended Notice of Meeting

Notice is hereby given of a change in the meeting of the National Advisory Dental and Craniofacial Research Council, September 9, 2021, 10:00 a.m. to September 9, 2021, 4:00 p.m., National Institutes of Health, National Institute of Dental and Craniofacial Res., 6701 Democracy Blvd., Bethesda, MD 20892 which was published in the Federal Register on August 13, 2021, FR Doc. 2021-17302, 86 FR 44736.

This meeting is being amended to change the times of the Open and Closed sessions. The Open session will be from 9:00 a.m. to 2:30 p.m. and will be videocast and can be accessed from the NIH Videocasting and Podcasting website (http://videocast.nih.gov/). The Closed session will be from 2:45 p.m. to 3:30 p.m. The meeting is partially Closed to the public.

Dated: August 23, 2021.
Melanie J. Pantoja,
Program Analyst, Office of Federal Advisory Committee Policy.

[FR Doc. 2021-18401 Filed 8-25-21; 8:45 am]

BILLING CODE 4140-01-P